DEPARTMENT OF HOMELAND SECURITY

U.S. Immigration and Customs Enforcement

[Docket No. ICEB-2023-0018]

RIN 1653-ZA46

Update to the Department of Homeland Security STEM Designated Degree Program List

AGENCY: U.S. Immigration and Customs Enforcement (ICE), Department of Homeland Security (DHS).

ACTION: Notice.

SUMMARY: This notice announces that the Secretary of Homeland Security (Secretary) is amending the DHS STEM Designated Degree Program List by adding one qualifying field of study and a corresponding Department of Education Classification of Instructional Programs (CIP) code for that field. The list is used to determine whether a degree obtained by certain F-1 nonimmigrant students following the completion of a program of study qualifies as a science, technology, engineering, or mathematics (STEM) degree as determined by DHS, as required for the F-1 student to be eligible to apply for a 24-month extension of their post-completion optional practical training (OPT).

DATES: DHS adopts the list announced in this notice as of July 23, 2024.

FOR FURTHER INFORMATION CONTACT: Sharon Snyder, Unit Chief, Policy and Response Center Unit, Student and Exchange Visitor Program; U.S. Immigration and Customs Enforcement, 500 12th Street SW, Stop 5600, Washington, DC 20536-5600; email: sevp@ice.dhs.gov, telephone: (703) 603-3400. This is not a toll-free number. Program information is available at https://www.ice.gov/sevis/.

SUPPLEMENTARY INFORMATION:

What action is DHS taking under this notice?

The Department of Homeland Security (DHS) is updating the list of STEM fields of study that fall within the regulatory definition of “STEM field” to add one field of study.¹ The list, known as the DHS STEM Designated Degree Program List (“STEM list”),² is used to determine whether a degree obtained by an F-1 nonimmigrant student qualifies as a STEM degree, as required for the F-1 nonimmigrant student to be eligible to apply for a STEM OPT extension. The current format of the STEM list, which consists of four primary CIP code series designated at the two-digit level, and CIP codes in related fields designated at the six-digit level, was established in a final rule issued in 2016.³ The STEM list was most recently updated in 2023.⁴

¹ While the 2016 STEM Rule provided for “additions or deletions to the list,” no deletions will be made at this time.

² ICE, DHS STEM Designated Degree Program List, https://www.ice.gov/doclib/sevis/pdf/stemList2023.pdf (last visited June 6, 2024).

³ See 81 FR 13040, Mar. 11, 2016.

⁴ See 88 FR 44381, July 12, 2023.

Why is DHS taking this action?

In 2016, DHS published a final rule providing a 24-month extension of OPT for F-1 nonimmigrant students who majored in a designated STEM field of study. See 81 FR 13040 (Mar. 11, 2016) (“Improving and Expanding Training Opportunities for F-1 Nonimmigrant Students With STEM Degrees and Cap-Gap Relief for All Eligible F-1 Students”) (“2016 STEM Rule”). The 2016 STEM Rule stated that DHS will continue to accept for consideration suggested additions or deletions to the STEM list and may publish updates to the STEM list in the Federal Register. DHS announced the addition of qualifying fields of study to the STEM list in Federal Register notices published in 2022 (see 87 FR 3317 (Jan. 21, 2022)) and 2023 (see 88 FR 44381 (July 12, 2023)). These notices also included instructions for how interested parties, including members of the public, can nominate CIP codes for potential inclusion on or removal from the STEM list. Following publication of the 2023 Federal Register notice, DHS received a total of 133 nominations, representing 68 unique fields of study, to be added to the STEM list.⁵ DHS did not receive any nominations to remove CIP codes currently on the list. Nominators may resubmit a nomination with additional supporting views and evidence, at any time, if their original submission is not addressed in this notice.

⁵ These included nominations for medical fields focused on patient care and for business fields of study. Beginning with the 2016 STEM Rule (81 FR 13040, 13075), DHS has generally declined “to define `STEM field' to include patient care and business fields of study.”

What is OPT and STEM OPT?

OPT is one type of work permission available to certain F-1 nonimmigrant students. It allows eligible F-1 students (except those in English language training programs) to obtain real-world work experience directly related to their major area of study.

The STEM OPT extension is a 24-month extension of OPT available to F-1 nonimmigrant students who have completed 12 months of OPT and received a degree in an approved STEM field of study as designated by the STEM list.

Who may be impacted by this notice?

This notice may impact qualifying F-1 nonimmigrant students who seek a 24- month extension of post-completion OPT.

Where can I find the STEM list?

The STEM list can be found in the docket for this notice and on the Student and Exchange Visitor Program (SEVP) website.⁶

⁶ See SEVP, Eligible CIP Codes for the STEM OPT Extension, https://studyinthestates.dhs.gov/stem-opt-hub/additional-resources/eligible-cip-codes-for-the-stem-opt-extension (last visited June 6, 2024).

What authority does DHS have to make changes to the STEM list?

The Secretary has broad authority to administer and enforce the Nation's immigration laws. See generally 6 U.S.C. 202; Immigration and Nationality Act of 1952, as amended (INA), sec. 103, 8 U.S.C. 1103. The INA establishes the F-1 nonimmigrant classification for individuals who wish to enter the United States temporarily and solely for the purpose of pursuing a full course of study at an academic institution or accredited language training school certified by the U.S. Immigration and Customs Enforcement's (ICE) SEVP. See INA sec. 101(a)(15)(F)(i), 8 U.S.C. 1101(a)(15)(F)(i). The INA provides the Secretary with broad authority to determine the time and conditions under which nonimmigrants, including F-1 students, may be admitted to the United States. See INA sec. 214(a)(1), 8 U.S.C. 1184(a)(1). The Secretary also has broad authority to determine which individuals are authorized for employment in the United States. See INA sec. 274A(h)(3), 8 U.S.C. 1324a(h)(3). Finally, the Secretary, or his or her designee, has authority to maintain the STEM list, which is a complete list of qualifying degree program categories published on the SEVP website at https://www.ice.gov/sevis/schools#dhs-stem-designated-degree-program-list-and-cip-code-nomination-process. Changes that are made to the STEM list may also be published in a notice in the Federal Register. See 8 CFR 214.2(f)(10)(ii)(C)(2)(ii).

Who may nominate a CIP code?

Interested parties, including members of the public, may nominate a CIP code for inclusion on, or removal from, the STEM list. CIP codes that already appear on the DHS STEM Designated Degree Program List do not need to be nominated.

How does DHS assess nominations?

Nominations to add or remove degrees from the STEM list are assessed consistent with the authorizing regulation.⁷ As defined in the governing regulations, a STEM field is a field included in the CIP taxonomy ⁸ that falls within the two-digit series containing engineering, biological sciences, mathematics and statistics, and physical sciences, or a related field, which generally involves research, innovation, or development of new technologies using engineering, mathematics, computer science, or natural sciences (including physical, biological, and agricultural sciences). See 8 CFR 214.2(f)(10)(ii)(C)(2)(i). This definition is widely used by U.S. institutions of higher education and provides an objective measure by which to identify STEM fields of study.

⁷ See 8 CFR 214.2(f)(10)(ii)(C)(2).

⁸ The CIP taxonomy is a taxonomic scheme that was developed by the Department of Education's National Center for Education Statistics (NCES) to support the accurate tracking and reporting of fields of study and program completion activity. See the NCES website (https://nces.ed.gov/ipeds/cipcode/default.aspx?y=55) (last visited June 6, 2024).

Through regulation,⁹ DHS has designated four areas as core STEM fields and lists these four areas at the two-digit CIP code level. As a result, any new additions to those areas are automatically included on the STEM list. These four areas are: Engineering (CIP code 14), Biological and Biomedical Sciences (CIP code 26), Mathematics and Statistics (CIP code 27), and Physical Sciences (CIP code 40). If a degree is not within the four core fields, DHS considers whether the degree is in a STEM-related field listed at the six-digit level. The six-digit designation allows for individualized review of a specific field of study to ensure it meets the “related field” criteria of “involving research, innovation, or development of new technologies using engineering, mathematics, computer science, or natural sciences (including physical, biological, and agricultural sciences).”

⁹ See 8 CFR 214.2(f)(10)(ii)(C)(2)(i).

SEVP evaluates submissions to assess whether the degree is generally considered to be a STEM degree by recognized authorities, including input from educational institutions, governmental entities, and non-governmental entities. SEVP also reviews the National Center for Education Statistics (NCES) definition of the CIP code, and any supporting material submitted by the nominator, such as the required curriculum for the degree and the extent to which it is comprised of core STEM disciplines, as well as research, innovation, and development of new technologies using engineering, mathematics, computer science, or natural sciences (including physical, biological, and agricultural sciences). Nominators may consider providing supporting materials such as letters from educational institutions that offer the degree program attesting to the integration of STEM disciplines in their programs and evidence of STEM engagement in program graduates' subsequent careers. Additionally, degree requirements and curriculum from multiple nominators may be assessed across academic institutions and compared to industry or professional standards to ensure that the core aspects of the degree are sufficiently consistent among educational institutions.

A proposed addition is not required to have all supporting elements to be added to the STEM list. DHS assesses the totality of the submission and may approve the proposed CIP code if the submission presents sufficient evidence and reasoning to establish that the degree under consideration fits within the regulatory definition of a STEM field.

How may a nomination be submitted?

Nominations may be submitted by email to the SEVP Response Center at SEVP@ice.dhs.gov, with the subject line “Attention: STEM CIP Code Nomination.” Nominators should review the current DHS STEM Designated Degree Program List before submitting their nomination. Interested parties do not need to submit a nomination for a CIP code that is already on the DHS STEM Designated Degree Program List.

What new fields of study will be added to the STEM list?

The following field of study is being added to the STEM list:

Environmental/Natural Resource Economics (03.0204). A program that focuses on the application of economic concepts and methods to the analysis of issues such as air and water pollution, land use planning, waste disposal, invasive species and pest control, conservation policies, and related environmental problems. Includes instruction in cost-benefit analysis, environmental impact assessment, evaluation and assessment of alternative resource management strategies, policy evaluation and monitoring, and descriptive and analytic tools for studying how environmental developments affect the economic system. This field of study, as described in the NCES definition, is comprised of STEM disciplines such as research, innovation, or development of new technologies using natural sciences and mathematics.

Paperwork Reduction Act (PRA)

Eligible students are required to submit a Form I-765, “Application for Employment Authorization,” to request employment authorization and an Employment Authorization Document, and a Form I-983, “Training Plan for STEM OPT Students,” to ensure that they are receiving the academic and training benefits of the STEM OPT extension. Consistent with the PRA, the Office of Management and Budget (OMB) has previously approved the collection of information contained on the current Form I-765 (OMB Control No. 1615-0040) and Form I-983 (OMB Control No. 1653-0054).

Although there could be a slight increase in the number of filings for both the Form I-765 and Form I-983 because of this notice, the number of filings currently contained in the OMB annual inventory is sufficient to cover any additional filings. Accordingly, there is no further action required under the PRA.

Alejandro N. Mayorkas,
Secretary, U.S. Department of Homeland Security.

[FR Doc. 2024-16127 Filed 7-22-24; 8:45 am]

BILLING CODE 9111-CB-P